DEPARTMENT OF EDUCATION

[CFDA No. 84.359A/B]

Early Reading First; Notice Reopening the Early Reading First (ERF) Fiscal Year (FY) 2006 Competition

AGENCY: Office of Elementary and Secondary Education, Department of Education.

SUMMARY: On January 18, 2006, we published in the Federal Register (71 FR 2916) a notice inviting applications for the Early Reading First FY 2006 competition. The deadline date for eligible applicants to transmit their pre-applications for funding under this competition was February 21, 2006 (as announced in the correction notice in the Federal Register on January 24, 2006 (71 FR 3829)).

We now are reopening the pre-application phase of the Early Reading First FY 2006 competition for two groups of eligible applicants:

Group 1: To afford eligible applicants a further opportunity to complete the electronic submission of their pre-applications for funding under this program, including those who may have experienced difficulties with the registration process, we are reopening the pre-application phase of the Early Reading First FY 2006 competition until March 9, 2006 for all eligible local educational agencies (LEAs) that were previously included on the posted Early Reading First eligible LEA lists and for eligible entities located in communities served by those eligible LEAs (Group 1).

These Group 1 applicants must submit their pre-applications electronically through Grants.gov as specified in the January 18, 2006 Federal Register notice inviting applications (Application Notice) (71 FR 2916). Group 1 applicants that submit their pre-applications pursuant to this notice must download, complete and submit an entirely new pre-application package through Grants.gov, as described in detail later in this notice under SUPPLEMENTARY INFORMATION, A. Group 1 Applicants—Electronic Submission Requirements, unless their previous submission was successfully submitted through Grants.gov by 4:30 p.m. (timely) or between 4:30 p.m. and midnight (late) on the original deadline of February 21, 2006.

Group 2: We also are reopening the pre-application phase of the Early Reading First FY 2006 competition for eligible LEAs that were inadvertently omitted from the FY 2006 eligible LEA lists posted on the Early Reading First Web site and for eligible entities located in communities served by those LEAs (Group 2). These Group 2 applicants will have an additional 30-day period from the date of this notice to submit their pre-applications.

These Group 2 applicants must submit their pre-applications in paper format by mail or hand delivery rather than electronically. Although the Department generally requires electronic submission of Early Reading First applications through Grants.gov, the Grants.gov system will not accept a limited category of pre-applications with a different deadline, such as these, within an overall competition. Therefore, the Department is requiring submission by paper format for this small group of eligible applicants.

The new pre-application deadline dates for these two groups are as follows:

DATES: Deadline for Transmittal of Group 1 Pre-Applications (All Eligible LEAs Previously Included on the FY 2006 Early Reading First Eligible LEA Lists and Eligible Entities Located in Communities Served by those LEAs): March 9, 2006 (by 4:30 p.m., Washington DC, time).

Pre-applications from Group 1 applicants for grants under this competition must be submitted electronically using the Grants.gov Apply site (Grants.gov). For information (including dates and times) about how to submit your application electronically (or by mail or hand delivery if you are an applicant that previously qualified in this Early Reading First FY 2006 competition for an exception to the electronic submission requirement), please refer to the SUPPLEMENTARY INFORMATION section in this notice.

We do not consider a pre-application that does not comply with the deadline announced in this notice and submission requirements. Applicants that previously successfully submitted their complete pre-applications on or before the original deadline date of February 21, 2006, including those that were not timely because they submitted their pre-applications between 4:30 p.m. and midnight on that date, are not required to resubmit their applications.

Deadline for Transmittal of Group 2 Pre-Applications (Eligible LEAs Listed in this Notice and Other Eligible Entities Located in Communities Served by those LEAs): April 3, 2006.

For Group 2 applicants, the submission requirements for pre-applications for grants under this competition are changed from the originally required electronic submission. Group 2 applicants must submit their pre-applications in paper format by mail or hand delivery. For information about how to submit your paper application by mail or hand delivery, please refer to the SUPPLEMENTARY INFORMATION section in this notice.

We do not consider an application that does not comply with the deadline and submission requirements announced in this notice.

Deadline for Intergovernmental Review: The deadline date for Intergovernmental Review under Executive Order 12732 remains as originally published, July 7, 2006.

SUPPLEMENTARY INFORMATION:

A. Group 1 Applicants

Group 1 Applicants—Electronic Submission Requirements

Pre-applications for grants under the Early Reading First program—CFDA Number 84.359A from Group 1 applicants must be submitted electronically using the Grants.gov Apply site at: http://www.grants.gov as specified in the January 18, 2006 Application Notice (71 FR 2916). This notice is available at the following Web site: http://www.ed.gov/legislation/FedRegister/announcements/2006-1/011806c.html.

You must be fully registered with Grants.gov before you can submit your pre-application. As described in the January 18, 2006 Application Notice (71 FR 2916), this registration process can take 5 or more days to complete.

We will reject your pre-application if you submit it in paper format (unless you are an applicant that previously qualified in this Early Reading First FY 2006 competition for an exception to the electronic submission requirement as described in section IV.6.a. of the January 18, 2006 Application Notice (71 FR 2916)).

To submit a pre-application under this reopened competition, you must download and complete an entirely new pre-application package from Grants.gov (unless your previous submission was successfully submitted by February 21, 2006 at 4:30 p.m. (timely) or between 4:30 p.m. and midnight (late), in which case you are not required to submit anything further). You will need to enter data in all of the required forms and attach your narrative responses to this new pre-application package before submission. If you try to submit a pre-application package that was downloaded from Grants.gov before the original pre-application deadline of February 21, 2006, your submission will be rejected by the Grants.gov system.

B. Group 2 Applicants

1. Correction of Eligible LEA Lists

For eligible LEAs specifically identified in this notice as being erroneously omitted from the original Early Reading First FY 2006 eligible LEA lists and for eligible entities located in communities served by those LEAs (Group 2 applicants), we are reopening the Early Reading First FY 2006 competition pre-application deadline for an additional 30 days from the date of this notice.

As indicated in the application package for this competition, lists of eligible LEAs (by State) are posted on the Early Reading First Web site at http://www.ed.gov/programs/earlyreading/eligibility.html. However, the eligible LEA lists that the Department originally posted were not correct because they omitted a number of eligible LEAs and included other LEAs that were not eligible.

Under this competition, eligible applicants are (a) one or more LEAs that are eligible to receive a subgrant under the Reading First program (title I, part B, subpart 3, Elementary and Secondary Education Act of 1965, as amended (ESEA)); (b) one or more public or private organizations or agencies (including faith-based organizations) located in a community served by an eligible LEA; or (c) one or more eligible LEAs, applying in collaboration with one or more eligible organizations or agencies. To qualify under paragraph (b) of this definition, the organization's or agency's application must be on behalf of one or more programs that serve preschool-age children (such as a Head Start program, a child care program, or a family literacy program such as Even Start, or a lab school at a university).

We have corrected the lists of eligible LEAs for this competition by adding the following eligible LEAs and removing the following ineligible LEAs:

Eligible LEAs (Added to the Corrected Eligible LEA Lists):

• Georgia: Wilkinson County.

• New York: Alexander Central School District; Baldwinsville Central School; Ballston Spa Central School; Beacon City School District; Bridgewater-West Winfield; Brockport Central School District; Cairo-Durham Central School District; Canandaigua City School District; Central Islip Union Free School; Central Square Central School District; Chester Union Free School District; Coxsackie-Athens Central School District; Dalton-Nunda Central School District; Elmira Heights Central School District; Freeport Union Free School District; Greenburgh Central School District; Lancaster Central School District; Liberty Central School District; Little Flower Union Free School District; Long Beach City School District; Mexico Central School District; Minisink Valley Central School District; Mohawk Central School District; Mount Pleasant-Cottage Union Free School District; Northeastern Clinton Central School District; Oneida City School District; Peekskill City School District; Remsen Central School District; Riverhead Central School District; Roosevelt Union Free School District; South County Central School District; South Huntingon Union Free School District; Spencer-Van Etten Central School District; Union Endicott Central School; Valley Central School District (Montgomery); Westbury Union Free School.

• Massachusetts: Everett; Fitchburg.

• North Dakota: Beach Public School; Underwood Public School District.

• Oregon: Bend-Lapine Administrative School District 1; Canby School District 86; Central School District 13J; Coquille School District 8; Eugene School District 4J; Klamath County School District; Ontario School District 8C; Springfield School District 19; Yamhill-Carlton School District 1.

Ineligible LEAs (Removed From the Corrected Eligible LEA Lists):

• North Dakota: Sherwood 2; Spiritwood 26; St. Thomas 43; Stanton 22; Wishek 19; Wolford 1.

• Vermont: Windham Northwest Supervisory Union.

The corrected eligible LEA lists are posted at: http://www.ed.gov/programs/earlyreading/eligibility.html.

2. Group 2 Applicants—Paper Submission Requirements

Pre-applications from Group 2 applicants for grants under the Early Reading First program—CFDA Number 84.359A must be submitted in paper format by mail or hand delivery (rather than electronically) as follows.

a. Submission of Paper Pre-Applications by Mail

If you are a Group 2 applicant as described in this notice, you may mail (through the U.S. Postal Service or a commercial carrier) your pre-application to the Department. You must mail the original and two copies of your pre-application, on or before the pre-application deadline date specified in this Federal Register notice, to the Department at the applicable following address:

By mail through the U.S. Postal Service: U.S. Department of Education, Application Control Center, Attention: (CFDA Number 84.359A), 400 Maryland Avenue, SW., Washington, DC 20202-4260; or

By mail through a commercial carrier: U.S. Department of Education, Application Control Center—Stop 4260, Attention: (CFDA Number 84.359A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your pre-application through the U.S. Postal Service, we do not accept either of the following as proof of mailing:

(1) A private metered postmark, or

(2) A mail receipt that is not dated by the U.S. Postal Service.

If your pre-application is postmarked after the pre-application deadline date specified in this notice, we will not consider your pre-application.

Note: The U.S. Postal Service does not uniformly provide a dated postmark. Before relying on this method, you should check with your local post office.

3. Submission of Paper Pre-Applications by Hand Delivery

If you are a Group 2 applicant as described in this notice, you (or a courier service) may deliver your paper pre-application to the Department by hand. You must deliver the original and two copies of your pre-application by hand, on or before the pre-application deadline date specified in this Federal Register notice, to the Department at the following address: U.S. Department of Education, Application Control Center, Attention: (CFDA Number 84.359A), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Pre-applications: If you mail or hand deliver your pre-application to the Department:

(1) You must indicate on the envelope and—if not provided by the Department—in Item 4 of the Application for Federal Education Assistance (ED 424) the CFDA number—and suffix letter, if any—of the competition under which you are submitting your pre-application.

(2) The Application Control Center will mail a grant pre-application receipt acknowledgment to you. If you do not receive the grant pre-application receipt acknowledgment within 15 business days from the pre-application deadline date in this notice, you should call the U.S. Department of Education Application Control Center at (202) 245-6288.

C. Group 1 and Group 2 Applicants—Additional Application Information

1. Address To Request Application Package

You may obtain an application package via the Internet or from the Education Publications Center (ED Pubs). To obtain an application via the Internet, use the following Web address: http://www.ed.gov/programs/earlyreading/applicant.html.

To obtain a copy from ED Pubs, write or call the Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application package from ED Pubs, be sure to identify this competition as follows: CFDA number 84.359A/B.

Individuals with disabilities may obtain a copy of the application package in an alternative format (e.g., Braille, large print, audiotape, or computer diskette) by contacting the program contact person listed under FOR FURTHER INFORMATION CONTACT in this notice.

2. Content and Form of Pre-Application Submission

All requirements concerning the content of the pre-application, including page-limit and limited appendices requirements, a competitive preference priority, and the selection criterion, together with the forms you must submit, are in the application package for this competition. Please also refer to the January 18, 2006 Application Notice (71 FR 2916) for further information governing this grant competition. This Federal Register notice is available at the following Web site: http://www.ed.gov/legislation/FedRegister/announcements/2006-1/011806c.html.

FOR FURTHER INFORMATION CONTACT: Jill Stewart, U.S. Department of Education, 400 Maryland Avenue, SW., room 3C136, Washington, DC 20202-6132. Telephone: (202) 260-2533 or by e-mail: Jill.Stewart@ed.gov or Rebecca Haynes, U.S. Department of Education, 400 Maryland Avenue, SW., room 3C138, Washington, DC 20202-6132. Telephone: (202) 260-0968 or by e-mail: Rebecca.Haynes@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 28, 2006.
Henry L. Johnson,
Assistant Secretary for Elementary and Secondary Education.

[FR Doc. 06-1993 Filed 3-1-06; 8:45 am]

BILLING CODE 4000-01-P